DEPARTMENT OF TRANSPORTATION

Federal Aviation Administration

14 CFR Part 39

[Docket No. FAA-2010-0261; Directorate Identifier 2010-CE-008-AD; Amendment 39-16312; AD 2010-11-07]

RIN 2120-AA64

Airworthiness Directives; Quartz Mountain Aerospace, Inc. Model 11E Airplanes

AGENCY: Federal Aviation Administration (FAA), Department of Transportation (DOT).

ACTION: Final rule.

SUMMARY: We are adopting a new airworthiness directive (AD) for all Quartz Mountain Aerospace, Inc. Model 11E airplanes. This AD requires you to clean and lubricate the aileron pushrod bearings. This AD results from reports of the aileron control stick force increasing and of the controls being very noisy. We are issuing this AD to detect and correct insufficient lubrication and residual metallic paint particles in the pushrod end ball joints, which could result in difficulty actuating aileron controls sometime during flight after takeoff. This condition could lead to difficulty controlling the airplane in flight.

DATES: This AD becomes effective on July 6, 2010.

On July 6, 2010, the Director of the Federal Register approved the incorporation by reference of certain publications listed in this AD.

ADDRESSES: Quartz Mountain Aerospace, Inc. is in liquidation. For service/or continued airworthiness information identified in this AD, contact Manager, Fort Worth Aircraft Certification Office, FAA, ATTN: Garry D. Sills, Aerospace Engineer, Rotorcraft Directorate—Airplane Certification Office, ASW-150, 2601 Meacham Blvd, Fort Worth, Texas 76193; telephone: (817) 222-5154; facsimile: (817) 222-5960.

To view the AD docket, go to U.S. Department of Transportation, Docket Operations, M-30, West Building Ground Floor, Room W12-140, 1200 New Jersey Avenue, SE., Washington, DC 20590, or on the Internet at http://www.regulations.gov. The docket number is FAA-2010-0261; Directorate Identifier 2010-CE-008-AD.

FOR FURTHER INFORMATION CONTACT: Garry D. Sills, Aerospace Engineer, Rotorcraft Directorate—Airplane Certification Office, ASW-150, 2601 Meacham Blvd, Fort Worth, Texas 76193; telephone: (817) 222-5154; facsimile: (817) 222-5960.

SUPPLEMENTARY INFORMATION:

Discussion

On March 9, 2010, we issued a proposal to amend part 39 of the Federal Aviation Regulations (14 CFR part 39) to include an AD that would apply to all Quartz Mountain Aerospace, Inc. Model 11E airplanes. This proposal was published in the Federal Register as a notice of proposed rulemaking (NPRM) on March 16, 2010 (75 FR 12468). The NPRM proposed to require you to clean and lubricate the aileron pushrod bearings.

Comments

We provided the public the opportunity to participate in developing this AD. We received no comments on the proposal or on the determination of the cost to the public.

Conclusion

We have carefully reviewed the available data and determined that air safety and the public interest require adopting the AD as proposed except for minor editorial corrections. We have determined that these minor corrections:

• Are consistent with the intent that was proposed in the NPRM for correcting the unsafe condition; and

• Do not add any additional burden upon the public than was already proposed in the NPRM.

Costs of Compliance

We estimate that this proposed AD would affect 12 airplanes in the U.S. registry.

We estimate the following costs to do the proposed cleaning and lubrication:

Labor cost | Parts cost | Total cost per airplane | Total cost on U.S. operators
1 work-hour × $85 per hour = $85 | $10 | $95 | $1,140

Authority for This Rulemaking

Title 49 of the United States Code specifies the FAA's authority to issue rules on aviation safety. Subtitle I, section 106 describes the authority of the FAA Administrator. Subtitle VII, Aviation Programs, describes in more detail the scope of the agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

We have determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2010-0261; Directorate Identifier 2010-CE-008-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding the following new AD:

2010-11-07 Quartz Mountain Aerospace, Inc.: Amendment 39-16312; Docket No. FAA-2010-0261; Directorate Identifier 2010-CE-008-AD.

Effective Date

(a) This AD becomes effective on July 6, 2010.

Affected ADs

(b) None.

Applicability

(c) This AD applies to Model 11E airplanes, all serial numbers, that are certificated in any category.

Subject

(d) Air Transport Association of America (ATA) Code 27: Flight Controls.

Unsafe Condition

(e) This AD results from reports of the aileron control stick force increasing and of the controls being very noisy. We are issuing this AD to detect and correct insufficient lubrication and residual metallic paint particles in the rod end ball joints, which could result in difficulty actuating aileron controls sometime during flight after takeoff. This failure could lead to difficulty controlling the airplane in flight.

Compliance

(f) To address this problem, you must do the following, unless already done:

Actions | Compliance | Procedures
(1) Clean and lubricate the aileron pushrod bearings | Within the next 10 hours time-in-service (TIS) after July 6, 2010 (the effective date of this AD) | Follow Quartz Mountain Aerospace Mandatory Service Bulletin No. SB 09-02, dated May 5, 2009.
(2) Lubricate the aileron pushrod bearings | Within 50 hours TIS after the cleaning and lubrication required by paragraph (f)(1) of this AD. Repetitively thereafter at intervals not to exceed 50 hours TIS | Follow Quartz Mountain Aerospace Mandatory Service Bulletin No. SB 09-02, dated May 5, 2009.

Special Flight Permit

(g) Under 14 CFR part 39.23, a special flight is not permitted for this AD.

Alternative Methods of Compliance (AMOCs)

(h) The Manager, Fort Worth Aircraft Certification Office, FAA, has the authority to approve AMOCs for this AD, if requested using the procedures found in 14 CFR 39.19. Send information to ATTN: Garry D. Sills, Aerospace Engineer, Rotorcraft Directorate—Airplane Certification Office, ASW-150, 2601 Meacham Blvd, Fort Worth, Texas 76193; telephone: (817) 222-5154; facsimile: (817) 222-5960. Before using any approved AMOC on any airplane to which the AMOC applies, notify your appropriate principal inspector (PI) in the FAA Flight Standards District Office (FSDO), or lacking a PI, your local FSDO.

Material Incorporated by Reference

(i) You must use Quartz Mountain Aerospace Mandatory Service Bulletin No. SB 09-02, dated May 5, 2009, to do the actions required by this AD, unless the AD specifies otherwise.

(1) The Director of the Federal Register approved the incorporation by reference of this service information under 5 U.S.C. 552(a) and 1 CFR part 51.

(2) Quartz Mountain Aerospace, Inc. is in liquidation. For service information identified in this AD, contact Manager, Fort Worth Aircraft Certification Office, FAA, ATTN: Garry D. Sills, Aerospace Engineer, Rotorcraft Directorate—Airplane Certification Office, ASW-150, 2601 Meacham Blvd, Fort Worth, Texas 76193; telephone: (817) 222-5154; fax: (817) 222-5960.

(3) You may review copies of the service information incorporated by reference for this AD at the FAA, Central Region, Office of the Regional Counsel, 901 Locust, Kansas City, Missouri 64106. For information on the availability of this material at the Central Region, call (816) 329-3768.

(4) You may also review copies of the service information incorporated by reference for this AD at the National Archives and Records Administration (NARA). For information on the availability of this material at NARA, call (202) 741-6030, or go to: http://www.archives.gov/federal_register/code_of_federal_regulations/ibr_locations.html.

Issued in Kansas City, Missouri, on May 14, 2010.
Kim Smith,
Manager, Small Airplane Directorate, Aircraft Certification Service.

[FR Doc. 2010-12302 Filed 5-28-10; 8:45 am]

BILLING CODE 4910-13-P